ENVIRONMENTAL PROTECTION AGENCY

[Petitions IV-2012-1 Through 5; FRL-9910-57-Region 4]

Clean Air Act Operating Permit Program; Petitions for Objection to State Operating Permit Renewals for Georgia Power/Southern Company

AGENCY: Environmental Protection Agency.

ACTION: Notice of final order on petitions to object to a state operating permit.

SUMMARY: The Environmental Protection Agency (EPA) Administrator signed an Order, dated April 14, 2014, partially granting and partially denying petitions to object to Clean Air Act (CAA) title V operating permit renewals issued by the Georgia Environmental Protection Division to Georgia Power Company for the following steam-electric generation stations: Hammond located near Coosa in Floyd County, Georgia; Kraft located near Port Wentworth in Chatham County, Georgia; McIntosh located near Rincon in Effingham County, Georgia; Scherer located near Juliette in Monroe County, Georgia; and Wansley located near Carrollton in Heard County, Georgia. This Order constitutes a final action on the petitions submitted by GreenLaw on behalf of Sierra Club and other environmental groups (Petitioners) and received by EPA on June 13 and 15, September 5, October 23 and November 13, 2012, respectively.

ADDRESSES: Copies of the Order, the petitions, and all pertinent information relating thereto are on file at the following location: EPA Region 4; Air, Pesticides and Toxics Management Division; 61 Forsyth Street SW., Atlanta, Georgia 30303-8960. The Order is also available electronically at the following address: http://www.epa.gov/region07/air/title5/petitiondb/petitions/ga_power_plants_response2012.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioners submitted petitions regarding the aforementioned Georgia Power facilities, requesting that EPA object to the CAA title V operating permit renewals (#4911-115-0003-V-03-0, 4911-051-0006-V-03-0, 4911-103-0003-V-03-0, 4911-207-0008-V-03-0, and 4911-149-0001-V-03-0, respectively). Petitioners alleged that the permit renewals were not consistent with the CAA because they: (1) Lack sufficiently detailed information regarding the facilities' compliance obligations related to hazardous air pollutant emissions under the National Emissions Standards for Hazardous Air Pollutants for electric utility steam generating units; (2) fail to assure compliance with the sulfur dioxide (SO2) emissions limit in Georgia's rules due to a permit provision authorizing facilities not to operate their SO2 continuous emission monitoring systems during startup, shutdown, malfunction and other periods; (3) lack sufficient monitoring requirements to assure compliance with applicable particulate matter limits; (4) contain vague and unenforceable fugitive dust control requirements; and (5) fail to apply preconstruction requirements under the CAA's Prevention of Significant Deterioration and Nonattainment New Source Review programs to recent and planned upgrades to Scherer's steam turbines.

On April 14, 2014, the Administrator issued an Order partially granting and partially denying the petitions. The Order explains EPA's rationale for partially granting and partially denying the petitions.

Dated: May 1, 2014.
A. Stanley Meiburg
Acting Regional Administrator, Region 4.

[FR Doc. 2014-10589 Filed 5-7-14; 8:45 am]

BILLING CODE 6560-50-P